FEDERAL COMMUNICATIONS COMMISSION

47 CFR Part 73

[DA 05-2940]

Radio Broadcasting Services; Various Locations

AGENCY: Federal Communications Commission.

ACTION: Final rule.

SUMMARY: The Commission, on its own motion, editorially amends the Table of FM Allotments to specify the actual classes of channels allotted to various communities. The changes in channel classifications have been authorized in response to applications filed by licensees and permittees operating on these channels. This action is taken pursuant to Revision of Section 73.3573(a)(1) of the Commission's Rules Concerning the Lower Classification of an FM Allotment, 4 FCC Rcd 2413 (1989), and Amendment of the Commission's Rules to permit FM Channel and Class Modifications by Applications, 8 FCC Rcd 4735 (1993).

DATES: Effective December 27, 2005.

FOR FURTHER INFORMATION CONTACT: Rolanda F. Smith, Media Bureau, (202) 418-2180.

SUPPLEMENTARY INFORMATION: This is a summary of the Commission's Report and Order, adopted November 9, 2005, and released November 10, 2005. The full text of this Commission decision is available for inspection and copying during regular business hours at the FCC Reference Information Center, Portals II, 445 12th Street, SW., Room CY-A257, Washington, DC 20554. The complete text of this decision may also be purchased from the Commission's duplicating contractor, Best Copy and Printing, Inc., 445 12th Street, SW., Room CY-B402, Washington, DC 20054, telephone 1-800-378-3160 or http://www.BCPIWEB.com. The Commission will not send a copy of the Report & Order in this proceeding pursuant to the Congressional Review Act, see 5 U.S.C. 801(a)(1)(A), because the adopted rules are rules of particular applicability.

List of Subjects in 47 CFR Part 73

Radio, Radio broadcasting.

Part 73 of title 47 of the Code of Federal Regulations is amended as follows:

PART 73—RADIO BROADCASTING SERVICES

1. The authority citation for part 73 continues to read as follows:

Authority: 47 U.S.C. 154, 303, 334, and 336.

§ 73.202 [Amended]

2. Section 73.202(b), the Table of FM Allotments under Alabama, is amended by removing Channel 238C3 and adding Channel 238C2 at Thomasville.

3. Section 73.202(b), the Table of FM Allotments under Arkansas, is amended by removing Channel 244A and adding Channel 244C3 at Ozark.

4. Section 73.202(b), the Table of FM Allotments under Colorado, is amended by removing Channel 297A and adding Channel 297C1 at Las Animas.

5. Section 73.202(b), the Table of FM Allotments under Florida, is amended by removing Channel 228A and adding Channel 228C3 at Belle Glade.

6. Section 73.202(b), the Table of FM Allotments under Idaho, is amended by removing Channel 221A and adding Channel 221C3 at St. Maries; and removing Channel 222C2 and adding Channel 222C3 at Victor.

7. Section 73.202(b), the Table of FM Allotments under Iowa, is amended by removing Channel 279C and adding Channel 279C0 at Glenwood.

8. Section 73.202(b), the Table of FM Allotments under Kansas, is amended by removing Channel 228A and adding Channel 228C1 at Burdett; removing Channel 249A and adding Channel 249C3 at Burlington; by removing Channel 250C and adding Channel 250C0 at Wichita; and by removing Channel 285A and adding Channel 284C1 at Ness City.

9. Section 73.202(b), the Table of FM Allotments under Kentucky, is amended by removing Channel 293A and adding Channel 294A at Williamstown.

10. Section 73.202(b), the Table of FM Allotments under Missouri, is amended by removing Channel 253A and adding Channel 253C3 at Windsor.

11. Section 73.202(b), the Table of FM Allotments under Montana, is amended by removing Channel 222C and adding Channel 222C0 at Miles City.

12. Section 73.202(b), the Table of FM Allotments under Nebraska, is amended by removing Channel 257C2 and adding Channel 257C1 at Overton.

13. Section 73.202(b), the Table of FM Allotments under Nevada, is amended by removing Channel 292C1 and adding Channel 292C at Lovelock.

14. Section 73.202(b), the Table of FM Allotments under New Mexico, is amended by removing Channel 279C and adding Channel 279C0 at Grants.

15. Section 73.202(b), the Table of FM Allotments under Oregon, is amended by removing Channel 260C and adding Channel 260C0 at Albany; by removing Channel 225A and adding Channel 225C3 at Coos Bay; and by removing Channel 227C and adding Channel 227C0 at Springfield-Eugene.

16. Section 73.202(b), the Table of FM Allotments under South Dakota, is amended by removing Channel 228A and adding Channel 229C3 at Pine Ridge.

17. Section 73.202(b), the Table of FM Allotments under Texas, is amended by removing Channel 263A and adding Channel 263C3 at Center; removing Channel 234C and adding Channel 234C0 at Luling; removing Channel 254C and adding Channel 254C0 at San Angelo; and removing Channel 247C and adding Channel 247C0 at San Antonio.

18. Section 73.202(b), the Table of FM Allotments under Utah, is amended by removing Channel 275C2 and adding Channel 276C at Hurricane.

19. Section 73.202(b), the Table of FM Allotments under Virginia, is amended by removing Channel 237B1 and adding Channel 237B at Colonial Heights.

20. Section 73.202(b), the Table of FM Allotments under Wisconsin, is amended by removing Channel 276A and adding Channel 276C3 at Crandon.

21. Section 73.202(b), the Table of FM Allotments under Wyoming, is amended by removing Channel 229A and adding Channel 229c3 at Cheyenne.

Federal Communications Commission.
John A. Karousos,
Assistant Chief, Audio Division, Media Bureau.

[FR Doc. 05-23182 Filed 11-22-05; 8:45 am]

BILLING CODE 6712-01-P